FEDERAL HOUSING FINANCE BOARD

[No. 2007-N-11]

Proposed Collection; Comment Request

AGENCY: Federal Housing Finance Board.

ACTION: Notice.

SUMMARY: In accordance with the requirements of the Paperwork Reduction Act of 1995, the Federal Housing Finance Board (Finance Board) is seeking public comments concerning a 3 year extension by the Office of Management and Budget (OMB) of its approval of the information collection entitled “Federal Home Loan Bank Directors.” OMB has been assigned control number 3069-0002, which is due to expire on November 30, 2007.

DATES: Interested persons may submit comments on or before October 9, 2007.

Comments: Submit comments by any one of the following methods:

E-mail: comments@fhfb.gov.

Fax: 202-408-2580.

Mail/Hand Delivery: Federal Housing Finance Board, 1625 Eye Street, NW., Washington, DC 20006, Attention: Public Comments.

Federal eRulemaking Portal: http://www.regulations.gov. Follow the instructions for submitting comments. Include the following information in the subject line of your submission: Federal Housing Finance Board. Proposed Collection; Comment Request: Federal Home Loan Bank Directors. 2007-N-11.

We will post all public comments we receive on this notice without change, including any personal information you provide, such as your name and address, on the Finance Board Web site at http://www.fhfb.gov/Default.aspx?Page=93&Top=93.

FOR FURTHER INFORMATION CONTACT: Patricia L. Sweeney, Program Analyst, Office of Supervision, by electronic mail at sweeneyp@fhfb.gov, by telephone at 202-408-2872, or by regular mail to the Federal Housing Finance Board, 1625 Eye Street, NW., Washington, DC 20006.

SUPPLEMENTARY INFORMATION:

A. Need for and Use of Information Collection

Section 7 of the Federal Home Loan Bank Act (Bank Act) (12 U.S.C. 1427) and the Finance Board's implementing regulation, codified at 12 CFR part 915, establish the eligibility requirements and the procedures for electing and appointing Federal Home Loan Bank (Bank) directors. Under part 915, the Banks determine the eligibility of elective directors and director nominees and run the annual director election process. To determine eligibility, the Banks use the Federal Home Loan Bank Elective Director Eligibility Certification Form, which has not changed since the information collection was last cleared in 2004. A copy of the Form is attached to this Notice. The Finance Board welcomes comments on the Form.

In 2007, the Finance Board published two rules affecting the eligibility and selection of appointive Bank directors. The first rule, published in April 2007, requires the boards of directors of the Banks to submit to the Finance Board a list of individuals that includes information regarding each individual's eligibility and qualifications to serve as a Bank director. The Finance Board uses the list provided by each Bank to select well-qualified individuals to serve on the Bank's board of directors. See 72 FR 15600 (Apr. 2, 2007). The second rule, published in June 2007, clarifies the types of financial interests an appointive Bank director may maintain in a member of the Bank on whose board the director serves. See 72 FR 33637 (June 19, 2007). As a result of these regulatory changes, the Finance Board has revised the form the Banks and the Finance Board use to determine whether prospective appointive directors satisfy the statutory and regulatory eligibility requirements and renamed it the Federal Home Loan Bank Appointive Director Application Form (Application Form). The revised Application Form asks individuals for information about their background and qualifications to serve as an appointive Bank director as well as compliance with statutory eligibility requirements. It also conforms the information about prohibited financial interests to the new rule. In addition, to reduce the burden on incumbent appointive directors, the Finance Board has created a new Federal Home Loan Bank Appointive Bank Director Annual Certification Form (Annual Form) that allows individuals simply to certify that they continue to meet the director eligibility requirements. Copies of both the revised Application Form and the new Annual Form are attached to this Notice. The Finance Board welcomes comments on both forms.

The likely respondents include Banks, Bank members, and prospective and incumbent Bank directors. The OMB number for the information collection is 3069-0002. The OMB clearance for the information collection expires on November 30, 2007.

B. Burden Estimate

The Finance Board estimates that the total number of respondents is 4,351, which includes 12 Banks, 4,000 Bank members, and 339 prospective and incumbent Bank directors. As explained below, the Finance Board estimates that the total annual hour burden for all respondents is 4,501.5 hours.

1. Elections and Elective Directors

a. Banks

The Finance Board estimates the total annual average hour burden for each Bank to conduct the election of directors and to process Elective Director Eligibility Certification Forms is 235 hours. The estimate for the average hour burden for all Banks is 2,820 hours (12 Banks × 235 hours).

b. Members

The Finance Board estimates the total annual average hour burden for all Bank members to participate in the election process is 1,075 hours. This includes the time necessary to consider elective director candidates and to cast votes. The Finance Board estimates that Bank members will consider 300 elective director candidates annually for a total of 75 hours (300 individuals × 15 minutes = 75 hours). The Finance Board estimates the total annual average hour burden for a Bank member to vote in the director election is 15 minutes for a total of 1,000 hours (4,000 voting members × 15 minutes = 1,000 hours).

c. Prospective and Incumbent Elective Directors

The Finance Board estimates the total annual average hour burden for all prospective and incumbent elective directors is 75 hours. This includes a total annual average of 100 prospective elective directors (out of the 300 individuals the Banks consider), with 1 response per individual taking an average of 30 minutes (100 individuals × 30 minutes = 50 hours). It also includes a total annual average of 100 incumbent elective directors, with 1 response per individual taking an average of 15 minutes (100 individuals × 15 minutes = 25 hours).

2. Appointive Directors

a. Banks

The Finance Board estimates the total annual average hour burden for each Bank to recruit, review, and recommend individuals to be appointed as Bank directors is 28 hours. The estimate for the average hour burden for all Banks is 336 hours (12 Banks × 28 hours).

b. Prospective and Incumbent Appointive Directors

The Finance Board estimates the total annual average hour burden for all prospective and incumbent appointive directors is 195.5 hours. This includes a total annual average number of 84 prospective appointive directors with 1 response per individual taking an average of 2 hours (84 individuals × 2 hours = 168 hours). It also includes a total annual average of 55 incumbent appointive directors, with 1 response per individual taking an average of 30 minutes (55 individuals × 30 minutes = 27.5 hours).

C. Comment Request

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

Dated: August 2, 2007.
By the Federal Housing Finance Board.
Neil R. Crowley,
Acting General Counsel.

BILLING CODE 6725-01-P

[FR Doc. 07-3862 Filed 8-7-07; 8:45 am]

BILLING CODE 6725-01-C